DEPARTMENT OF ENERGY

Federal Energy Regulatory Commission

[Docket No. RP01-375-001]

Vector Pipeline L.P.; Notice of Negotiated Rates

November 5, 2001.

Take notice that on November 1, 2001, Vector Pipeline L.P. (Vector) tendered for filing the following tariff sheets for the disclosure of recently completed negotiated rate transactions with Reliant Energy Services, Inc. and Nexen Marketing U.S.A., Inc., respectively:

Original Sheet No. 173

Original Sheet No. 174.

Vector states that copies of its letter of transmittal and enclosures have been served upon Vector's customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28134 Filed 11-8-01; 8:45 am]

BILLING CODE 6717-01-P